ENVIRONMENTAL PROTECTION AGENCY

40 CFR Part 52

[IN99-1b; FRL-6573-6]

Approval and Promulgation of Implementation Plan; Indiana

AGENCY: Environmental Protection Agency (EPA).

ACTION: Proposed rule.

SUMMARY: EPA is proposing to approve revisions to particulate matter (PM) emissions regulations for Dubois County, Indiana, which the Indiana Department of Environmental Management (IDEM) submitted to EPA on February 3, 1999, as amendments to its State Implementation Plan (SIP). The revisions include relaxation of some PM limits, elimination of limits for boilers which are no longer operating, updating facility names, and changing some boiler fuel types. Air quality dispersion modeling provided by IDEM shows that this SIP revision will not have an adverse effect on PM air quality.

DATES: EPA must receive written comments on this proposed rule by May 22, 2000.

ADDRESSES: You should mail written comments to: J. Elmer Bortzer, Chief, Regulation Development Section, Air Programs Branch (AR-18J), U.S. Environmental Protection Agency, Region 5, 77 West Jackson Boulevard, Chicago, Illinois 60604.

You may inspect copies of the State submittal and EPA's analysis of it at: Regulation Development Section, Air Programs Branch (AR-18J), U.S. Environmental Protection Agency, Region 5, 77 West Jackson Boulevard, Chicago, Illinois 60604.

FOR FURTHER INFORMATION CONTACT: David Pohlman, Environmental Scientist, Regulation Development Section, Air Programs Branch (AR-18J), U.S. Environmental Protection Agency, Region 5, 77 West Jackson Boulevard, Chicago, Illinois 60604, (312) 886-3299.

SUPPLEMENTARY INFORMATION: Throughout this document wherever “we,” “us,” or “our” are used we mean EPA.

Table of Contents

I. What action is EPA taking today?

II. Where can I find more information about this proposal and the corresponding direct final rule?

I. What Action is EPA Taking Today?

We are proposing to approve revisions to PM emissions regulations for Dubois County, Indiana, which IDEM submitted to EPA on February 3, 1999, as amendments to its SIP. The revisions include relaxation of some PM limits, elimination of limits for boilers which are no longer operating, updating facility names, and changing some boiler fuel types.

II. Where can I Find More Information About This Proposal and the Corresponding Direct Final Rule?

For additional information see the direct final rule published in the rules section of this Federal Register.

Dated: March 28, 2000.
Francis X. Lyons,
Regional Administrator, Region 5.

[FR Doc. 00-9921 Filed 4-20-00; 8:45 am]

BILLING CODE 6560-50-P